DEPARTMENT OF TRANSPORTATION

Federal Aviation Administration

[Docket No.: FAA-2022-0121; Summary Notice No. -2022-20]

Petition for Exemption; Summary of Petition Received; FulcrumAir Corp.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before August 24, 2022.

ADDRESSES: Send comments identified by docket number FAA-2022-0181 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Jake Troutman, (202) 683-7788, Office of Rulemaking, Federal Aviation Administration, 800 Independence Avenue SW, Washington, DC 20591.

This notice is published pursuant to 14 CFR 11.85.

Issued in Washington, DC.
Timothy R. Adams,
Deputy Executive Director, Office of Rulemaking.

Petition for Exemption

Docket No.: FAA-2022-0181.

Petitioner: FulcrumAir Corp.

Section(s) of 14 CFR Affected: §§ 61.3(a)(1)(i), 91.7(a), 91.109(a), 91.151(b), 91.403(b), 91.405(a), 91.407(a)(1), 91.409(a)(1), 91.409(a)(2), 91.417(a), 91.417(b), 133.19(a), 133.21(a), 133.21(b), 133.27(b), 133.33(a), 133.33(b)(1), 133.43, 133.45(a), 133.45(b), 133.45(c), 133.45(d), 133.47, 133.49, and 133.51.

Description of Relief Sought: FulcrumAir Corp. petitions for an exemption to operate its E7500 unmanned aircraft system (UAS), weighing over 55 pounds (lbs.) but no more than 220 lbs., to provide commercial external-load rotorcraft operations in the United States with a Part 133 Rotorcraft External-Load Operator Certificate. The E7500 UAS is an electric vertical take-off and landing heavy lift coaxial helicopter designed to sling a machine used to install Bird Flight Diverters, and other cable sensing machines on overhead power transmission lines located in low-risk remote and sparsely populated areas. The petitioner intends to operate in Class G airspace at or below 400 feet above ground level. Operations will occur within visual line of sight of the pilot and during daylight hours only. The petitioner proposes to use a pilot in command holding a remote pilot certificate issued under 14 CFR part 107.

[FR Doc. 2022-16779 Filed 8-4-22; 8:45 am]

BILLING CODE 4910-13-P